DEPARTMENT OF LABOR

Employment and Training Administration

[TA-W-63,013]

A.O. Smith Electrical Products Company, Scottsville, KY; Notice of Termination of Investigation

Pursuant to section 221 of the Trade Act of 1974, as amended, an investigation was initiated on March 17, 2008 in response to a worker petition filed by a company official on behalf of workers at A.O. Smith Electrical Products Company, Scottsville, Kentucky.

The petitioning group of workers is covered by an earlier petition (TA-W-62,988) filed on March 11, 2008 that is the subject of an ongoing investigation for which a determination has not yet been issued. Further investigation in this case would duplicate efforts and serve no purpose; therefore the investigation under this petition has been terminated.

Signed at Washington, DC, this 17th day of March 2008.
Richard Church,
Certifying Officer, Division of Trade Adjustment Assistance.

[FR Doc. E8-6110 Filed 3-25-08; 8:45 am]

BILLING CODE 4510-FN-P